ENVIRONMENTAL PROTECTION AGENCY

[EPA-R09-OAR-2023-0411; FRL-13176-01-R9]

Clean Air Act Tribal Minor New Source Review Permit Issued to Lupton Plant Property, LLC and Lupton Petroleum Products Inc., for the Lupton Facility

AGENCY: Environmental Protection Agency (EPA).

ACTION: Notice of final action.

SUMMARY: This document announces that the U.S. Environmental Protection Agency (EPA), Region 9, made a final decision to issue, in accordance with the Clean Air Act (CAA), a Tribal Minor New Source Review (NSR) permit to Lupton Plant Property, LLC/Lupton Petroleum Products Inc. for the Lupton Facility under the CAA's Tribal Minor NSR Program. This permit authorizes the modification and operation of an existing transmix processing and bulk petroleum storage facility in Lupton, Arizona.

DATES: The EPA's final decision for the Lupton Facility was issued on November 14, 2025, and became effective December 17, 2025. Pursuant to section 307(b)(1) of the Clean Air Act, judicial review of this final agency decision, to the extent it is available, may be sought by filing a petition for review in the United States Court of Appeals for the Ninth Circuit by April 13, 2026.

ADDRESSES: The EPA established a docket for this action under Docket ID No. EPA-R09-OAR-2023-0411. All documents in the docket are listed on the https://www.regulations.gov website. Although listed in the docket index, some information is not publicly available, e.g., Confidential Business Information (CBI) or other information the disclosure of which is restricted by statute. Certain other material, such as copyrighted material, is not placed on the internet and will be publicly available only in hard copy form. Publicly available docket materials are available through https://www.regulations.gov. Please contact the person identified in the FOR FURTHER INFORMATION CONTACT section for additional information about accessing docket materials for this action.

FOR FURTHER INFORMATION CONTACT: Po-Chieh Ting, EPA Region 9, (415) 972-3191, ting.pochieh@epa.gov. The EPA's final permit decision, the Technical Support Document for this action, and all other supporting information are available through https://www.regulations.gov under Docket ID No. EPA-R09-OAR-2023-0411.

SUPPLEMENTARY INFORMATION:

Notice of Final Action

On November 14, 2025, the EPA issued a final decision to issue a permit, Permit No. C-2025-6, to Lupton Plant Property, LLC, a limited liability corporation incorporated in Idaho with its principal place of business in Idaho Falls, Idaho, and Lupton Petroleum Products Inc., a general business corporation incorporated in Idaho with its principal place of business in Idaho Falls, Idaho. This permit pertains to the modification and operation of the Lupton Facility (“Source”), an existing transmix processing and bulk petroleum storage facility, located partially on Navajo Nation Reservation in Lupton, Arizona. The EPA issued the permit pursuant to the provisions of CAA sections 110(a) and 301(d) and the EPA's Tribal Minor NSR Program at 40 CFR 49.151-49.164. The EPA based its decision on its determination that the Source met the applicability criteria and submitted all required content in the permit application under the EPA's Tribal Minor NSR Program. Notice of the final decision was provided on November 17, 2025, pursuant to 40 CFR 49.159(a). In accordance with 40 CFR 49.159(d)(1), permit decisions may be appealed under the permit appeal procedures of 40 CFR 124.19. In accordance with 40 CFR 124.19, within 30 days after service of notice of the final permit decision, any person who filed comments on the draft permit or participated in a public hearing on the draft permit may file a petition to the EPA's Environmental Appeal Board (EAB) for review. Additionally, any person who failed to file comments or failed to participate in the public hearing on the draft permit may petition the EAB for administrative review of any permit conditions set forth in the final permit decision, but only to the extent that those final permit conditions reflect changes from the proposed draft permit. The EPA received one comment filed on the draft permit during the public comment period. The EPA did not hold, or receive a request for, a public hearing on the draft permit. In the EPA's permit issued in its final permit decision, the EPA responded to public comments received but did not change the final permit conditions from those of the proposed draft permit. The EAB did not receive a petition to review any condition in the permit decision under 40 CFR 124.19. Therefore, pursuant to 40 CFR 49.159(a), this permit became effective on December 17, 2025.

Authority: 42 U.S.C. 7401 et seq.

Dated: February 2, 2026.
Anita Lee,
Acting Director, Air and Radiation Division, Region IX.

[FR Doc. 2026-02834 Filed 2-11-26; 8:45 am]

BILLING CODE 6560-50-P